DEPARTMENT OF ENERGY

Federal Energy Regulatory Commission

Notice of Application Ready for Environmental Analysis and Soliciting Comments, Recommendations, Terms and Conditions, and Prescriptions

| Project No.
FFP Missouri 16, LLC | 13753-002
FFP Missouri 15, LLC | 13762-002
Solia 8 Hydroelectric, LLC | 13771-002
FFP Missouri 13, LLC | 13763-002
Solia 5 Hydroelectric, LLC | 13766-002
Solia 4 Hydroelectric, LLC | 13767-002
FFP Missouri 12, LLC | 13755-002
FFP Missouri 5, LLC | 13757-002
FFP Missouri 6, LLC | 13761-002
Solia 6 Hydroelectric, LLC | 13768-002

Take notice that the following hydroelectric applications have been filed with the Commission and are available for public inspection.

a. Type of Application: Original Major License.

b. Project Nos.: 13753-002; 13762-002; 13771-002; 13763-002; 13766-002; 13767-002; 13755-002; 13757-002; 13761-002; 13768-002.

c. Date filed: P-13753, P-13762, P-13771, P-13763, and P-13766 were filed on February 27, 2014; P-13755 was filed on February 3, 2014; P-13757, P-13761, and P-13768 were filed on March 14, 2014.

d. Applicants: FFP Missouri 16, LLC; FFP Missouri 15, LLC; Solia 8 Hydroelectric, LLC; FFP Missouri 13, LLC; Solia 5 Hydroelectric, LLC; Solia 4 Hydroelectric, LLC; FFP Missouri 12, LLC; FFP Missouri 5, LLC; FFP Missouri 6, LLC, and; Solia 6 Hydroelectric, LLC. All applicants are subsidiaries of FFP New Hydro, LLC.

e. Name of Projects: Opekiska Lock and Dam Hydroelectric Project; Morgantown Lock and Dam Hydroelectric Project; Point Marion Lock and Dam Hydroelectric Project; Grays Landing Lock and Dam Hydroelectric Project; Maxwell Lock and Dam Hydroelectric Project; Monongahela Lock and Dam Number Four Hydroelectric Project; Allegheny Lock and Dam Number Two Hydroelectric Project; Emsworth Locks and Dam Hydroelectric Project; Emsworth Back Channel Hydroelectric Project; Montgomery Hydroelectric Project.

f. Location: The proposed projects would be located at U.S. Army Corps of Engineers' (Corps) dams on the Monongahela, Allegheny, and Ohio rivers as described in the table below. The projects would occupy approximately 41.2 acres of federal land managed by the Corps.

Project No. | Projects | County and state | City/town | Federal land used by project (acres)
P-13753 | Opekiska Lock and Dam | Monongalia, WV | Between Fairmont and Morgantown | * 4.5
P-13762 | Morgantown Lock and Dam | Monongalia, WV | Morgantown | 1.0
P-13771 | Point Marion Lock and Dam | Fayette, PA | Point Marion | 1.4
P-13763 | Grays Landing Lock and Dam | Greene, PA | Near Masontown | * 12.0
P-13766 | Maxwell Lock and Dam | Washington, PA | Downstream of Fredericktown | * 1.0
P-13767 | Monongahela Lock and Dam Number Four | Washington, PA | Charleroi | * 1.0
P-13755 | Allegheny Lock and Dam Number Two | Allegheny, PA | Borough of Sharpsburg | 3.2
P-13757 | Emsworth Locks and Dam | Allegheny, PA | Neville Township | 9.7
P-13761 | Emsworth Back Channel Dam | Allegheny, PA | Neville Township | 2.3
P-13768 | Montgomery Locks & Dam | Beaver, PA | Borough of Industry | 5.1
* Value is estimated from exhibit G.

g. Filed Pursuant to: Federal Power Act 16 U.S.C. 791(a)-825(r).

h. Applicant Contact: Kellie Doherty, Vice President—Environmental, Rye Development, LLC, 745 Atlantic Ave, 8th Floor, Boston, MA 02111 or at (781)856-2030.

i. FERC Contact: Nicholas Ettema, (202) 502-6565 or nicholas.ettema@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include the applicable project name(s) and docket number(s) (e.g., Opekiska Lock and Dam P-13753-002).

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. These applications have been accepted, and are ready for environmental analysis at this time.

l. The proposed Opekiska Lock and Dam Hydroelectric Project would be the most upstream project at river mile (RM) 115.4 on the Monongahela River and would consist of the following new facilities: (1) A 180-foot-long, 95-foot-wide intake channel directing flow to a 30-foot-long, 50-foot-high, 70-foot-wide intake structure with 3-inch bar spacing trash racks; (2) a 120-foot-long, 60-foot-high, 70-foot-wide reinforced concrete powerhouse on the west bank of the river; (3) two turbine-generator units with a combined capacity of 6.0 megawatts (MW); (4) a 280-foot-long, 64-foot-wide tailrace; (5) a 40-foot-long by 40-foot-wide substation; (6) a 3,511-foot-long, 12.5-kilovolt (kV), overhead transmission line to connect the project substation to an existing distribution line; and (7) appurtenant facilities.

The proposed Morgantown Lock and Dam Hydroelectric Project would be located at RM 102.0 on the Monongahela River and consist of the following new facilities: (1) A 100-foot-long, 64-foot-wide intake channel located downstream of the Corps' 6th spillway gate on the east side of the river; (2) a pair of spill gates totaling 60 feet wide located within the intake channel; (3) a 30-foot-long, 50-foot-high, 64-foot-wide intake structure with 3-inch bar spacing trash racks; (4) a 120-foot-long, 60-foot-high, 70-foot-wide reinforced concrete powerhouse; (5) two turbine-generator units with a combined capacity of 5.0 MW; (6) a 170-foot-long, 90-foot-wide tailrace; (7) a 40-foot-long by 40-foot-wide substation; (8) a 2,162-foot-long, 12.5-kV, overhead transmission line to connect the project substation to an existing distribution line; and (9) appurtenant facilities.

The proposed Point Marion Lock and Dam Hydroelectric Project would be located at RM 90.8 on the Monongahela River and consist of the following new facilities: (1) A 280-foot-long, 70-foot-wide intake channel directing flow to a 30-foot-long, 50-foot-high, 70-foot-wide intake structure with 3-inch bar spacing trash racks; (2) a 120-foot-long, 60-foot-high, 70-foot-wide reinforced concrete powerhouse on the east bank of the river; (3) two turbine-generator units with a combined capacity of 5.0 MW; (4) a 215-foot-long, 84-foot-wide tailrace; (5) a 40-foot-long by 40-foot-wide substation; (6) a 3,325-foot-long, 69-kV, overhead transmission line to connect the project substation to an existing substation; and (7) appurtenant facilities.

The proposed Grays Landing Lock and Dam Hydroelectric Project would be located at RM 82.0 on the Monongahela River and consist of the following new facilities: (1) A 300-foot-long, 130-foot-wide intake channel directing flow to a 100-foot-long, 84-foot-wide intake structure with 3-inch bar spacing trash racks; (2) a 576-foot-long, 2.5-foot-high adjustable crest gate on top of the existing dam crest; (3) a 150-foot-long, 75-foot-high, 90-foot-wide reinforced concrete powerhouse on the west bank of the river; (4) two turbine-generator units with a combined capacity of 12.0 MW; (5) a 250-foot-long, 84-foot-wide tailrace; (6) a 40-foot-long by 40-foot-wide substation; (7) a 9,965-foot-long, 69-kV, overhead transmission line to connect the project substation to an existing distribution line; and (8) appurtenant facilities.

The proposed Maxwell Lock and Dam Hydroelectric Project would be located at RM 61.2 on the Monongahela River and consist of the following new facilities: (1) A 130-foot-long, 85-foot-wide intake channel located immediately downstream of the Corps' 5th spillway gate on the east side of the river; (2) a pair of spill gates totaling 84 feet wide located within the proposed intake channel; (3) a 100-foot-long, 70-foot-high, 85-foot-wide intake structure with 3-inch bar spacing trash racks; (4) a 150-foot-long, 70-foot-high, 90-foot-wide reinforced concrete powerhouse; (5) two turbine-generator units with a combined capacity of 13.0 MW; (6) a 160-foot-long, 120-foot-wide tailrace; (7) a 40-foot-long by 40-foot-wide substation; (8) a 350-foot-long, 69/138-kV, overhead transmission line to connect the project substation to an existing distribution line; and (9) appurtenant facilities.

The proposed Monongahela Lock and Dam Number Four (Charleroi) Hydroelectric Project would be located at RM 41.5 on the Monongahela River and consist of the following new facilities: (1) A 140-foot-long, 90-foot-wide intake channel located immediately downstream of the Corps' 5th spillway gate on the west side of the river; (2) a pair of spill gates totaling 84 feet wide located within the proposed intake channel; (3) a 100-foot-long, 65-foot-high, 90-foot-wide intake structure with 3-inch bar spacing trash racks; (4) a 150-foot-long, 70-foot-high, 90-foot-wide reinforced concrete powerhouse; (5) two turbine-generator units with a combined capacity of 12.0 MW; (6) a 210-foot-long, 130-foot-wide tailrace; (7) a 40-foot-long by 40-foot-wide substation; (8) a 45-foot-long, 69-kV, overhead transmission line to connect the project substation to an existing distribution line; and (9) appurtenant facilities.

The proposed Allegheny Lock and Dam Number Two Hydroelectric Project would be located at RM 6.7 on the Allegheny River and consist of the following new facilities: (1) A 170-foot-wide, 120-foot-long, 70-foot-high intake structure with two 5-inch bar spacing trash racks; (2) two 45-foot-wide, 40-foot-high spillway bays; (3) an 1,100-foot-long, 2.5-foot-high adjustable crest gate on top of the existing dam crest; (4) a 170-foot-wide by 180-foot-long powerhouse along the east side of the river; (5) three Kaplan turbine-generator units with a combined installed capacity of 17.0 MW; (6) a 50-foot-wide by 60-foot-long substation; (7) a 1,265-foot-long, single overhead, 69-kV, overhead transmission line to connect the project substation to an existing distribution line owned by Duquesne Light Company; and (8) appurtenant facilities. The average annual generation would be 81,950 MWh annually.

The proposed Emsworth Locks and Dam Hydroelectric Project would be located at RM 6.2 on the Ohio River and would consist of the following new facilities: (1) A 205-foot-long, 180-foot-wide intake channel directing flow to a 30-foot-long, 63.5-foot-high, 180-foot-wide intake structure with 5-inch bar spacing trash racks; (2) a 180-foot-long, 77-foot-high, 180-foot-wide reinforced concrete powerhouse on the south bank of the river; (3) four turbine-generator units with a combined capacity of 24 MW; (4) a 380-foot-long, 280-foot-wide tailrace; (5) a 50-foot-long by 60-foot-wide substation; (6) a 1,893-foot-long, 69-kV, overhead transmission line to connect the project substation to an existing substation; and (7) appurtenant facilities. The average annual generation would be 101,300 MWh.

The proposed Emsworth Back Channel Dam Hydroelectric Project would be located at RM 6.8 on the Ohio River and consist of the following new facilities: (1) A 100-foot-long, 165-foot-wide intake channel directing flow to a 32-foot-long, 63.5-foot-high, 90-foot-wide intake structure with 5-inch bar spacing trash racks; (2) a 150-foot-long, 77-foot-high, 90-foot-wide reinforced concrete powerhouse on the north bank of the river; (3) two turbine-generator units with a combined capacity of 12.0 MW; (4) a 190-foot-long, 105-foot-wide tailrace; (5) a 50-foot-long by 60-foot-wide substation; (6) a 3,758-foot-long, 69-kV, overhead transmission line to connect the project substation to an existing substation; and (7) appurtenant facilities. The average annual generation would be 53,500 MWh.

The proposed Montgomery Locks and Dam Hydroelectric Project would be located at RM 31.7 on the Ohio River and consist of the following new facilities: (1) A 340-foot-long, 205-foot-wide intake channel directing flow to a 150-foot-long, 90-foot-high, 205-foot-wide intake structure with 5-inch bar spacing trash racks; (2) a 315-foot-long, 105-foot-high, 205-foot-wide reinforced concrete powerhouse on the north bank of the river; (3) three turbine-generator units with a combined capacity of 42 MW; (4) a 280-foot-long, 210-foot-wide tailrace; (5) a 50-foot-long by 60-foot-wide substation; (6) a 392-foot-long, 69-kV, overhead transmission line to connect the project substation to an existing distribution line; and (7) appurtenant facilities. The average annual generation would be 194,370 MWh.

The applicants propose to operate each of the ten projects in a “run-of-river” mode using flows made available by the Corps. The proposed projects would not change existing flow releases or water surface elevations upstream or downstream of the proposed projects.

m. A copy of each application is available for review at the Commission in the Public Reference Room or may be viewed on the Commission's Web site at http://www.ferc.gov using the “eLibrary” link. Enter the docket number excluding the last three digits in the docket number field to access the document. For assistance, contact FERC Online Support. Copies are also available for inspection and reproduction at the address in item h above.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to these or other pending projects. For assistance, contact FERC Online Support.

n. Public notice of the filing of the initial development applications, which has already been given, established the due date for filing competing applications or notices of intent. Under the Commission's regulations, any competing development application must be filed in response to and in compliance with public notice of the initial development application. No competing applications or notices of intent may be filed in response to this notice.

o. A license applicant must file no later than 60 days following the date of issuance of this notice: (1) A copy of the water quality certification; (2) a copy of the request for certification, including proof of the date on which the certifying agency received the request; or (3) evidence of waiver of water quality certification.

Dated: December 17, 2015.
Nathaniel J. Davis, Sr.,
Deputy Secretary.

[FR Doc. 2015-32272 Filed 12-22-15; 8:45 am]

BILLING CODE 6717-01-P